DEPARTMENT OF ENERGY

Federal Energy Regulatory Commission

[Docket No. RP00-336-029]

El Paso Natural Gas Company; Notice of Compliance Filing

June 2, 2004.

Take notice that on May 27, 2004, El Paso Natural Gas Company (El Paso) tendered for filing as part of its FERC Gas Tariff, Second Revised Volume No. 1A, the following tariff sheets with an effective date of May 1, 2004.

Fourth Revised Sheet No. 113D

Second Revised Sheet No. 113E

1st Revised Third Revised Sheet No. 119

Fourth Revised Sheet No. 120

First Revised Sheet No. 121

Ninth Revised Sheet No. 214

El Paso states that the tariff sheets remove the provisions applicable to the reserved capacity pool.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Magalie R. Salas,
Secretary.

[FR Doc. E4-1282 Filed 6-8-04; 8:45 am]

BILLING CODE 6717-01-P